DEPARTMENT OF HEALTH AND HUMAN SERVICES

Centers for Medicare & Medicaid Services

[Document Identifier: CMS-10510]

Emergency Clearance: Public Information Collection Requirements Submitted to the Office of Management and Budget (OMB)

AGENCY: Centers for Medicare & Medicaid Services, HHS.

In compliance with section 3506(c)(2)(A) of the Paperwork Reduction Act of 1995, the Centers for Medicare & Medicaid Services (CMS), Department of Health and Human Services, is publishing a summary of this proposed information collection for public comment. Interested persons are invited to send comments regarding this collection's proposed burden estimates or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

In compliance with section 3506(c)(2)(A) of the Paperwork Reduction Act of 1995, we have also submitted to the Office of Management and Budget (OMB) the proposed information collection for their emergency review. While the collection is necessary to ensure compliance with an initiative of the Administration, we are requesting emergency review under 5 CFR 1320(a)(2)(i) because public harm is reasonably likely to result if the regular clearance procedures are followed.

Without emergency approval, we will need to delay by approximately 4 months the release of Basic Health Program (BHP) federal payment rates beyond the March 2014 timeframe that was published in the BHP proposed regulation released on September 25, 2013 (78 FR 59122). Instead, we would release rates in early summer 2014 to accommodate the normal PRA approval process. Rates are needed in March 2014 to support state decisions to implement BHP on January 1, 2015, and to provide the necessary time for states to do their planning, contracting with issuers, and conducting open enrollment. Providing rates in the summer 2014 will likely postpone interested states' decisions and their implementation dates by as much as a year. This could result in as many as 1.3 million low income people not having access to BHP in early 2015, thereby prohibiting them from availing continuity of providers and health care that BHP is intended to provide. That is, BHP is a bridge program for low income people who today move in and out of health programs as their eligibility changes based on fluctuations in income and other factors, and such movements disrupt their access to the providers and services that they need. This delay in access to BHP benefits would likely cause public harm.

1. Type of Information Collection Request: New collection (request for a new OMB control number); Title of Information Collection: Basic Health Program Report for Health Insurance Exchange Premium; Use: In accordance with section 1331 of the Affordable Care Act, the Basic Health Program (BHP) is federally funded by determining the amount of payments that the federal government would have made through premium tax credits (PTCs) and cost sharing reductions (CSRs) for people enrolled in BHP had they instead been enrolled in an Exchange.

To calculate these amounts for each state, we need the reference premiums for the second lowest cost silver plans (SLCSPs) in each geographic area in a state, as SLCSPs are a basic unit in the calculation of PTCs and CSRs under the Exchanges. Relatedly, the reference premiums for these SLCSPs are critical components in the BHP payment methodology in order to estimate what PTCs and CSRs would have been paid. Similarly, we also need to collect reference premiums for the lowest cost bronze plans to appropriately account for CSR calculations for American Indians and Alaskan Natives. Reference premiums are foundational inputs into the BHP payment methodology.

We have the necessary information to determine these reference premiums for states whose Exchanges are operated by the Federally Facilitated Exchange (FFE) or in Partnership with the FFE. Therefore, this collection only pertains to the 17 states who are operating State Based Exchanges. A related notice, issued under CMS-2380-PN, is also publishing in today's Federal Register; Form Number: CMS-10510 (OCN: 0938-New); Frequency: Yearly; Affected Public: State, Local or Tribal Governments; Number of Respondents: 17; Total Annual Responses: 17; Total Annual Hours: 68. (For policy questions regarding this collection contact Jessica Schubel at 410-786-3032.)

We are requesting OMB review and approval of this collection by December 23, 2013, with a 180-day approval period. Written comments and recommendations will be considered from the public if received by the date and address noted below.

Copies of the supporting statement and any related forms can be found at: http://www.cms.hhs.gov/PaperworkReductionActof1995 or can be obtained by emailing your request, including your address, phone number, OMB number, and CMS document identifier, to: Paperwork@cms.hhs.gov, or by calling the Reports Clearance Office at: 410-786-1326.

When commenting on this proposed information collection, please reference the CMS document identifier and the OMB control number (OCN). To be assured consideration, comments and recommendations must be received in one of the following ways by January 2, 2014:

1. Electronically. You may submit your comments electronically to http://www.regulations.gov. Follow the instructions for “Comment or Submission” or “More Search Options” to find the information collection document(s) accepting comments.

2. By regular mail. You may mail written comments to the following address: CMS, Office of Strategic Operations and Regulatory Affairs, Division of Regulations Development, Attention: Document Identifier (CMS-10510), Room C4-26-05, 7500 Security Boulevard, Baltimore, Maryland 21244-1850 and, OMB Office of Information and Regulatory Affairs, Attention: CMS Desk Officer, New Executive Office Building, Room 10235, Washington, DC 20503, Fax Number: 202-395-6974.

Dated: December 17, 2013.
Martique Jones,
Deputy Director, Regulations Development Group, Office of Strategic Operations and Regulatory Affairs.

[FR Doc. 2013-30434 Filed 12-18-13; 4:15 pm]

BILLING CODE 4120-01-P